ENVIRONMENTAL PROTECTION AGENCY

[ER-FRL-8586-6]

Environmental Impact Statements; Notice of Availability

Responsible Agency: Office of Federal Activities, General Information (202) 564-1399 or http://www.epa.gov/compliance/nepa/.

Weekly receipt of Environmental Impact Statements filed 10/06/2008 through 10/10/2008. Pursuant to 40 CFR 1506.9.

EIS No. 20080410, Second Final Supplement, FTA, CA, South Sacramento Corridor Phase 2, Improve Transit Service and Enhance Regional Connectivity, Funding, in the City and County Sacramento, CA, Wait Period Ends: 11/17/2008, Contact: Jerome Wiggins 415-744-3115.

EIS No. 20080411, Draft EIS, AFS, UT, Dixie National Forest Lands, To Identify Oil and Gas Leasing of Lands, Implementation, Garfield, Iron, Kane, Piute, Washington Counties, UT, Comment Period Ends: 12/16/2008, Contact: Susan Baughman 435-865-3703.

EIS No. 20080412, Final EIS, FRA, NJ, Portal Bridge Capacity Enhancement Project, To Replace the nearly 100-Year-Old Portal Bridge and Eliminate Capacity Constraints on the Northeast Corridor between Swift Interlocking and Secaucus Transfer Station, Funding, U.S. Army Corp Section 10 and 404 Permits, Hackensack River, Hudson County, NJ, Wait Period Ends: 11/17/2008, Contact: David Valenstein 202-493-6368.

EIS No. 20080413, Draft EIS, FHW, CA, Mid County Parkway Project, Construct a New Parkway between Interstate 15 (I-15) in the West and State Route 79 (SR-79) in the East, Funding and U.S. Army COE Section 404 Permit, Riverside County, CA, Comment Period Ends: 12/08/2008, Contact: Tay Dam 213-202-3954.

EIS No. 20080414, Draft EIS, COE, 00, PROGRAMMATIC—Oyster Restoration in Chesapeake Bay Including the Use of a Native and/or Nonnative Oyster, Implementation, Chesapeake Bay, MD and VA, Comment Period Ends: 12/15/2008, Contact: Craig Seltzer 757-201-7390.

EIS No. 20080415, Draft EIS, FHW, ID, I-90 Post Falls Access Improvements Project, Transportation Improve from Spokane Street Interchange through the State Highway 41 (SH-41) Interchange, Kootenai County, ID, Comment Period Ends: 12/01/2008, Contact: Paul C. Ziman 208-334-9180-Ext. 127.

EIS No. 20080416, Final EIS, BLM, OR, Western Oregon Bureau of Land Management Districts of Salem, Eugene, Roseburg, Coos Bay, and Medford Districts, and the Klamath Falls Resource Area of the Lakeview District, Revision of the Resource Management Plans, Implementation, OR, Wait Period Ends: 12/01/2008, Contact: Jerry Hubbard 503-808-6115.

EIS No. 20080417, Final EIS, UAF, FL, Eglin Air Force Base Program, Base Realignment and Closure (BRAC) 2005 Decisions and Related Action, Implementation, FL, Wait Period Ends: 11/17/2008, Contact: Mike Spaits 850-8820-2878.

EIS No. 20080418, Draft EIS, DOE, 00, PROGRAMMATIC—Global Nuclear Energy Partnership (GNEP) Program, To Support a Safe, Secure, and Sustainable Expansion of Nuclear Energy, both Domestically and Internationally, (DOE/EIS-0396), Comment Period Ends: 12/16/2008, Contact: Francis G. Schwartz 866-645-7803.

EIS No. 20080419, Final EIS, NHT, 00, Corporate Average Fuel Economy (CAFÉ) Proposed Standards for Model Year 2011-2015 Passenger Cars and Light Trucks, Implementation, Wait Period Ends: 11/17/2008, Contact: Carol Hammel-Smith 202-366-5206.

EIS No. 20080420, Final EIS, BLM, CA, Sunrise Powerlink Transmission Line Project, Proposed Land Use Plan Amendment, Construction and Operation of a New 91-mile 500 kilovolt (kV) Electric Transmission Line from Imperial Valley Substation (in Imperial Co. near the City of El Centro) to a New Central East Substation (in Central San Diego County) Imperial and San Diego Counties, CA, Wait Period Ends: 11/17/2008, Contact: Lynda Kastoll 760-337-4421.

EIS No. 20080421, Draft EIS, NSA, MD, Fort George G. Meade Utilities Upgrade Project, Proposes to Construct and Operate (1) North Utility Plant (2) South Generator Facility and (3) Central Boiler Plant, Fort George M. Meade, MD, Comment Period Ends: 12/01/2008, Contact: Jeffrey D. Williams 301-688-2970.

EIS No. 20080422, Draft EIS, FTA, MD, Purple Line Transit Project, Proposed 16-Mile Rapid Transit Line Extending from Bethesda in Montgomery County to New Carrollton in Prince George's County, MD , Comment Period Ends: 12/01/2008, Contact: Gail McFadden-Roberts 215-656-7100.

Amended Notices

EIS No. 20080227, Second Draft Supplement, TPT, CA, Presidio Trust Management Plan (PTMP), Updated Information on the Concept for the 120-Acre Main Post District, Area B of the Presidio of San Francisco, Implementation, City and County of San Francisco, CA, Comment Period Ends: 10/20/2008, Contact: John G. Pelka 415-561-5300.

Revision to FR Notice Published: Extending Comment Period from 09/19/2008 to 10/20/2008.

EIS No. 20080293, Draft EIS, IBR, CA, Cachuma Lake Resource Management Plan, Implementation, Cachuma Lake, Santa Barbara County, CA, Comment Period Ends: 10/31/2008, Contact: Sharon McHale 916-989-7172. Revision to FR Notice Published 08/01/2008: Extending Comment Period from 09/15/2008 to 10/31/2008.

EIS No. 20080297, Draft EIS, IBR, CA, Lake Casitas Resource Management Plan (RMP), Implementation, Cities of Los Angeles and Ventura, Western Ventura County, CA, Comment Period Ends: 10/31/2008, Contact: Sharon McHale 916-989-7172. Revision to FR Notice Published 08/08/2008: Extending Comment Period from 9/22/2008 to 10/31/2008.

Dated: October 14, 2008.
Ken Mittelholtz,
Environmental Protection Specialist, Office of Federal Activities.

[FR Doc. E8-24813 Filed 10-16-08; 8:45 am]

BILLING CODE 6560-50-P